DEPARTMENT OF LABOR

Employment and Training Administration

[TA-W-65,652]

Aida America Corporation, Dayton, OH; Notice of Termination of Investigation

Pursuant to Section 221 of the Trade Act of 1974, as amended, an investigation was initiated on March 23, 2009 in response to a petition filed by a company official on behalf of workers of Aida America Corporation, Dayton, Ohio.

The petitioner has requested that the petition be withdrawn. Therefore, the investigation under this petition has been terminated.

Signed at Washington, DC, this 3rd day of April 2009.
Linda G. Poole,
Certifying Officer, Division of Trade Adjustment Assistance.

[FR Doc. E9-10590 Filed 5-6-09; 8:45 am]

BILLING CODE 4510-FN-P